CORPORATION FOR NATIONAL AND COMMUNITY SERVICE

Agency Information Collection Activities; Submission to the Office of Management and Budget for Review and Approval; Comment Request; Evaluation of Public Health AmeriCorps

AGENCY: Corporation for National and Community Service.

ACTION: Notice of information collection; request for comment.

SUMMARY: The Corporation for National and Community Service, operating as AmeriCorps, has submitted a public information collection request (ICR) entitled Evaluation of Public Health AmeriCorps for review and approval in accordance with the Paperwork Reduction Act.

DATES: Written comments must be submitted to the individual and office listed in the ADDRESSES section by March 7, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling Nicole Jones, 202-569-3638, or by email at njones@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 7, 2023 at 88 FR 61575. This comment period ended November 6, 2023. One public comment was received from this notice. The comment received inquired about (1) data collection and data ownership, (2) the purpose and need for the Public Health AmeriCorps Technical Assistance and Training Form, and (3) the length of the Public Health AmeriCorps Outcome Evaluation Draft survey. Responses are:

• All data collected will be managed and securely stored by the contractor and delivered to the AmeriCorps Office of Research and Evaluation (ORE) in aggregate form during the contract term, and after the contract ends, will be delivered to ORE as a de-identified public use data file and a restricted use data file. ORE will securely store the data and AmeriCorps programs will not have access to the data except in aggregate form, upon request.

• The Public Health AmeriCorps Technical Assistance and Training form was a requested instrument from the program team. This instrument will allow for the contractor to distill any information that wasn't already collected in the grantee survey or focus group guide. The instrument will be used as a supplemental tool to capture any additional information that wasn't collected in other activities.

• The evaluation team has been mindful of the length and burden of the member survey. The survey has gone through several iterations and has been shortened. The contractor piloted the instrument with up to nine members and conducted cognitive interviews after the members completed the survey. The version the contractor piloted took participants on average less than 30 minutes to complete and participants did not express dissatisfaction with the length of the survey. The reason for keeping questions that are also found in the Member Exit Survey (MES) is that participants in the Public Health AmeriCorps evaluation might not complete the MES, and consequently it would not be possible to merge the two surveys. It is important for the Public Health AmeriCorps survey to include complete data to address the evaluation questions and to create more complete datasets across the agency. We want to ensure we close any gaps (intake information and member surveys) and confirm information already received. The purpose of reaching out to members who exited early is to better understand their experience and the challenges they encountered in completing their service. This data may inform programmatic changes with the aim of minimizing attrition among members. We will also benchmark the Public Health AmeriCorps survey to other similar public health program to see how Public Health AmeriCorps is achieving the goal of creating a pathway to public health careers.

Title of Collection: Evaluation of Public Health AmeriCorps.

OMB Control Number: 3045-NEW. Type of Review: New.

Respondents/Affected Public: Individuals and Households (AmeriCorps Members) and Businesses and Organizations (Grantees).

Total Estimated Number of Annual Responses: 2,198.

Total Estimated Number of Annual Burden Hours: 2,097.

Abstract: The evaluation will examine the extent to which Public Health AmeriCorps is progressing toward its goals to address public health needs and develop the next generation of public health leaders. The evaluation will answer questions about the challenges and successes with program implementation, recruitment and retention of members, partnership between grantees and other organizations such as state and local health departments, members' career intentions, and members' professional development. This information collection request includes several information collection instruments: a member alumni survey, an early exit survey, a grantee survey, a training and technical assistance form, grantee focus group questions, early exit interview questions, and partner interview questions. The burden hour per response for each of these instruments ranges from 15 minutes to an hour and a half. Throughout the evaluation design process, AmeriCorps received feedback and guidance from partners and advisory groups, including AmeriCorps staff, CDC staff, and public health and public health workforce professionals. This is a new information collection.

Mary Hyde,
Director, Office of Research and Evaluation.

[FR Doc. 2024-02275 Filed 2-5-24; 8:45 am]

BILLING CODE 6050-28-P